ENVIRONMENTAL PROTECTION AGENCY

40 CFR Parts 174 and 180

[EPA-HQ-OPP-2015-0032; FRL-9957-99]

Receipt of Several Pesticide Petitions Filed for Residues of Pesticide Chemicals in or on Various Commodities

AGENCY: Environmental Protection Agency (EPA).

ACTION: Notice of filing of petitions and request for comment.

SUMMARY: This document announces the Agency's receipt of several initial filings of pesticide petitions requesting the establishment or modification of regulations for residues of pesticide chemicals in or on various commodities.

DATES: Comments must be received on or before April 24, 2017.

ADDRESSES: Submit your comments, identified the docket identification (ID) number and the pesticide petition number (PP) of interest as shown in the body of this document, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW., Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: Robert McNally, Biopesticides and Pollution Prevention Division (BPPD) (7511P), main telephone number: (703) 305-7090; email address: BPPDFRNotices@epa.gov., or Michael L. Goodis, Registration Division (RD) (7505P), main telephone number: (703) 305-7090; email address: RDFRNotices@epa.gov. The mailing address for each contact person is: Office of Pesticide Programs, Environmental Protection Agency, 1200 Pennsylvania Ave. NW., Washington, DC 20460-0001. As part of the mailing address, include the contact person's name, division, and mail code. The division to contact is listed at the end of each pesticide petition summary.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

If you have any questions regarding the applicability of this action to a particular entity, consult the person listed under FOR FURTHER INFORMATION CONTACT for the division listed at the end of the pesticide petition summary of interest.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

3. Environmental justice. EPA seeks to achieve environmental justice, the fair treatment and meaningful involvement of any group, including minority and/or low-income populations, in the development, implementation, and enforcement of environmental laws, regulations, and policies. To help address potential environmental justice issues, the Agency seeks information on any groups or segments of the population who, as a result of their location, cultural practices, or other factors, may have atypical or disproportionately high and adverse human health impacts or environmental effects from exposure to the pesticides discussed in this document, compared to the general population.

II. What action is the Agency taking?

EPA is announcing its receipt of several pesticide petitions filed under section 408 of the Federal Food, Drug, and Cosmetic Act (FFDCA), 21 U.S.C. 346a, requesting the establishment or modification of regulations in 40 CFR part 174 and part 180 for residues of pesticide chemicals in or on various food commodities. The Agency is taking public comment on the requests before responding to the petitioners. EPA is not proposing any particular action at this time. EPA has determined that the pesticide petitions described in this document contain the data or information prescribed in FFDCA section 408(d)(2), 21 U.S.C. 346a(d)(2); however, EPA has not fully evaluated the sufficiency of the submitted data at this time or whether the data support granting of the pesticide petitions. After considering the public comments, EPA intends to evaluate whether and what action may be warranted. Additional data may be needed before EPA can make a final determination on these pesticide petitions.

Pursuant to 40 CFR 180.7(f), a summary of each of the petitions that are the subject of this document, prepared by the petitioner, is included in a docket EPA has created for each rulemaking. The docket for each of the petitions is available at http://www.regulations.gov.

As specified in FFDCA section 408(d)(3), 21 U.S.C. 346a(d)(3), EPA is publishing notice of the petitions so that the public has an opportunity to comment on these requests for the establishment or modification of regulations for residues of pesticides in or on food commodities. Further information on the petitions may be obtained through the petition summaries referenced in this unit.

New Tolerances

1. PP 5E8439. (EPA-HQ-OPP-2016-0066). Dow AgroSciences, LLC, 9330 Zionsville Road Indianapolis, IN 46268, requests to establish a tolerance in 40 CFR part 180.638 for residues of the herbicide, pyroxsulam, in or on teff, grain at 0.01 ppm, teff, forage at 0.06 ppm, teff, hay at 0.01 ppm, and teff, straw at 0.03 ppm. The Dow AgroSciences Method GRM 04/17 is used to measure and evaluate the chemical residues of pyroxsulam in wheat commodities. Contact: RD.

2. PP 6E8496. (EPA-HQ-OPP-2016-0516). Interregional Research Project No.4 (IR-4), 500 College Road East, Suite 201W, Princeton, NJ 08540, requests to establish tolerances in 40 CFR part 180.478 for residues of the herbicide rimsulfuron, N-[[(4,6-dimethoxy-2-pyrimidinyl)amino] carbonyl]-3-(ethylsulfonyl)-2-pyridinesulfonamide, including its metabolites and degradates, in or on berry, low growing, except strawberry, subgroup 13-07H at 0.01 parts per million (ppm), fruit, citrus, group 10-10 at 0.01 ppm, fruit, pome, group 11-10 at 0.01 ppm, fruit, stone, group 12-12 at 0.01 ppm, nut, tree, group 14-12 at 0.01 ppm, vegetable, tuberous and corm, subgroup 1C at 0.1 ppm, fruit, small, vine climbing, except fuzzy kiwifruit, subgroup 13-07F at 0.01 ppm, and tolerances with regional restrictions in or on fescue, forage at 0.01 ppm; fescue, hay at 0.01 ppm; ryegrass, perennial, hay at 0.01 ppm, and ryegrass, perennial, forage at 0.01 ppm. Analytical methodology, high-pressure liquid chromatography with Electrospray Ionization/tandem Mass Spectrometry (ESI-MS/MS) detection, is available for enforcement purposes. The two methods are “Analytical Method for the Determination of Rimsulfuron in Watery and Dry Crop Matrices by High Performance Liquid Chromatography (HPLC)/ESI-MS/MS”, DuPont Report 15033 and “Analytical Method for the Determination of Rimsulfuron in Oily Crop Matrices by HPLC/ESI-MS/MS”, DuPont Report 15027. The limit of quantitation for rimsulfuron with these methods, in raw agricultural commodities and in processed fractions, is 0.01 ppm. Contact RD

3. PP 6E8510. (EPA-HQ-OPP-2016-0651). Interregional Research Project No.4 (IR-4), 500 College Road East, Suite 201W, Princeton, NJ 08540, requests to establish tolerances in 40 CFR part 180.458 for residues of the sum of the herbicide clethodim, 2-[(1E)-1-[[[(2E)-3-chloro-2-propenyl]oxy]imino]propyl]-5-[2-(ethylthio)propyl]-3-hydroxy-2-cyclohexen-1-one, and its metabolites containing the 5-(2-ethylthiopropyl)cyclohexene-3-one and 5-(2-ethylthiopropyl)-5-hydroxycyclohexene-3-one moieties and their sulphoxides and sulphones, calculated as the stoichiometric equivalent of clethodim, in or on in or on the raw agricultural commodities: almond, hulls at 0.2 parts per million (ppm); brassica, leafy greens, subgroup 4-16B at 3.0 ppm; leaf petiole vegetable subgroup 22B at 0.60 ppm; leafy greens subgroup 4-16A at 2.0 ppm; nut, tree, group 14-12 at 0.2 ppm; okra at 1.5 ppm; onion, green, subgroup 3-07B at 2.0 ppm; stalk and stem vegetable subgroup 22A at 1.7 ppm; vegetable, brassica, head and stem, group 5-16 at 3.0 ppm; and vegetable, fruiting, group 8-10, except okra at 1.0 ppm. Practical analytical methods for detecting and measuring levels of clethodim have been developed and validated in/on all appropriate agricultural commodities and respective processing fractions. The LOQ of clethodim in the methods is 0.2 ppm, which will allow monitoring of food with residues at the levels proposed for the tolerances. Contact: RD.

4. PP 6F8512. (EPA-HQ-OPP-2016-0649). Nisso America Inc., on behalf of Nippon Soda Co., Ltd., 88 Pine Street, 14th Floor, New York, NY 10005, requests to establish tolerances in 40 CFR part 180.667 for residues of the fungicide, cyflufenamid, in or on cherry (crop sub-group 12-12A) at 0.6 ppm, fruiting vegetables (crop group 8-10) at 0.2 ppm, and hops at 5.0 ppm. A method was developed using solvent extraction of cyflufenamid from crops and analyzing sample extracts by LC/MS/MS. Contact: RD.

Amended Tolerances

1. PP 6E8496. (EPA-HQ-OPP-2016-0516). Inter-regional Research Project No.4 (IR-4), 500 College Road East, Suite 201W, Princeton, NJ 08540, requests to amend the tolerance(s) in 40 CFR part 180.478 upon establishment of tolerances under PP 6E8496 of “New Tolerances” referenced above, by removing existing tolerances for residues of the herbicide rimsulfuron, N-[[(4,6-dimethoxy-2-pyrimidinyl)amino] carbonyl]-3-(ethylsulfonyl)-2-pyridinesulfonamide, including its metabolites and degradates in or on fruit, citrus, group 10 at 0.01 ppm; fruit, pome group 11 at 0.01 ppm; fruit, stone group 12 at 0.01 ppm; grape at 0.01 ppm; nut, tree group 14 at 0.01 ppm; pistachio at 0.01 ppm; and potato at 0.10 ppm. Analytical methodology, high-pressure liquid chromatography with ESI-MS/MS detection, is available for enforcement purposes. The two methods are “Analytical Method for the Determination of Rimsulfuron in Watery and Dry Crop Matrices by HPLC/ESI-MS/MS”, DuPont Report 15033 and “Analytical Method for the Determination of Rimsulfuron in Oily Crop Matrices by HPLC/ESI-MS/MS”, DuPont Report 15027. The limit of quantitation for rimsulfuron with these methods, in raw agricultural commodities and in processed fractions, is 0.01 ppm. Contact RD

2. PP 6E8510. (EPA-HQ-OPP-2016-0651). Inter-regional Research Project No.4 (IR-4), 500 College Road East, Suite 201W, Princeton, NJ 08540, requests to amend the tolerance(s) in 40 CFR part 180.458 upon establishment of tolerances under “New Tolerances” PP 6E8510 referenced above, by removing established tolerances superseded by this action for residues of the sum of the herbicide clethodim, 2-[(1E)-1-[[[(2E)-3-chloro-2-propenyl]oxy]imino]propyl]-5-[2-(ethylthio)propyl]-3-hydroxy-2-cyclohexen-1-one, and its metabolites containing the 5-(2-ethylthiopropyl)cyclohexene-3-one and 5-(2-ethylthiopropyl)-5-hydroxycyclohexene-3-one moieties and their sulphoxides and sulphones, calculated as the stoichiometric equivalent of clethodim in or on the raw agricultural commodities asparagus at 1.7 ppm; brassica, head and stem, subgroup 5A at 3.0 ppm; brassica, leafy greens, subgroup 5B at 3.0 ppm; leaf petioles subgroup 4B at 0.60 ppm; leafy greens subgroup 4A at 2.0 ppm; onion, green at 2.0 ppm; turnip, greens at 3.0 ppm; and vegetable, fruiting, group 8-10 at 1.0 ppm. Practical analytical methods for detecting and measuring levels of clethodim have been developed and validated in/on all appropriate agricultural commodities and respective processing fractions. The Limit of Quantitation (LOQ) of clethodim in the methods is 0.2 ppm, which will allow monitoring of food with residues at the levels proposed for the tolerances. Contact: RD.

Amended Tolerance Exemptions

1. PP 6G8523. (EPA-HQ-OPP-2014-0457). J.R. Simplot Company, 5369 W. Irving St., Boise, ID 83706, requests to amend an exemption from the requirement of a tolerance in 40 CFR 174.534 for residues of the plant-incorporated protectant (PIP) VNT1 protein in or on potato. The petitioner believes no analytical method is needed for enforcement purposes because the VNT1 protein concentration is lower than the detectable limit of 100 parts per billion (ppb) in tubers. As the expression levels of the VNT1 protein are below detection limits, it is impractical to demonstrate methods for detecting and measuring the levels of the pesticide residues. Contact: BPPD.

Authority: 21 U.S.C. 346a.

Dated: January 11, 2017.
Michael Goodis,
Acting Director, Registration Division, Office of Pesticide Programs.

[FR Doc. 2017-05704 Filed 3-22-17; 8:45 am]

BILLING CODE 6560-50-P